DEPARTMENT OF COMMERCE

National Oceanic and Atmospheric Administration

50 CFR Part 635

[I.D. 070500C]

Atlantic Highly Migratory Species (HMS) Fisheries; Bycatch Reduction

AGENCY: National Marine Fisheries Service (NMFS), National Oceanic and Atmospheric Administration (NOAA), Commerce.

ACTION: Notice of intent to prepare a Supplemental Environmental Impact Statement (SEIS); notice of availability of Biological Opinion; announcement of scoping meetings.

SUMMARY: NMFS announces its intent to prepare an SEIS to address requirements of the Biological Opinion dated June 30, 2000, that was issued pursuant to a formal consultation under section 7 of the Endangered Species Act (ESA); and, relative to fishing activities for Atlantic HMS, to assess the impacts of potential management options on the natural and human environment. The purpose of this notice is to inform the interested public of the intent to prepare the SEIS; announce the availability of, and provide information on, the Biological Opinion; announce that NMFS is considering regulatory and non-regulatory measures to address the requirements of the Biological Opinion for the Atlantic HMS fisheries for the current fishing year and for the long-term; and announce public scoping meetings on issues and management options that NMFS should consider in addressing the requirements of the Biological Opinion and in preparing the SEIS.

DATES: Public scoping meetings will take place in July and August, 2000. See SUPPLEMENTARY INFORMATION for dates and times of the scoping meetings. Additional scoping meetings may be scheduled at a later date and will be announced in the Federal Register.

ADDRESSES: Comments on the proposal to prepare the SEIS and suggestions for the times and locations of additional scoping meetings should be sent to: Rebecca Lent, Chief, Highly Migratory Species Management Division (F/SF1), Office of Sustainable Fisheries, NMFS, 1315 East-West Highway, Silver Spring, MD 20910. See SUPPLEMENTARY INFORMATION for the locations of the scoping meetings.

FOR FURTHER INFORMATION CONTACT: Margo Schulze-Haugen or Karyl Brewster-Geisz, 301-713-2347; fax 301-713-1917.

SUPPLEMENTARY INFORMATION:

Background

The Atlantic HMS fisheries are managed under the Fishery Management Plan for Atlantic Tunas, Swordfish, and Sharks (HMS FMP), Amendment 1 to the Atlantic Billfish Fishery Management Plan, and their implementing regulations found at 50 CFR part 635. The Atlantic shark regulations are issued under authority of the Magnuson-Stevens Fishery Conservation and Management Act (Magnuson Stevens Act)(16 U.S.C. 1801 et seq.). The Atlantic tunas, swordfish, and billfish fisheries are managed under the authority of the Magnuson-Stevens Act (16 U.S.C. 1801 et seq.) and the Atlantic Tunas Convention Act (ATCA) (16 U.S.C. 971 et seq.).

Biological Opinion Requirements

In 1999, the Atlantic pelagic longline fishery exceeded its authorized take of loggerhead sea turtles as set out in the Incidental Take Statement previously issued with the April 23, 1999, Biological Opinion. As required under the ESA, NMFS requested, on November 19, 1999, a re-initiation of consultation under Section 7 of the ESA. On June 30, 2000, NMFS issued a new Biological Opinion that concluded the operation of the Atlantic pelagic longline fishery is likely to jeopardize the continued existence of the leatherback and loggerhead sea turtles.

In order to eliminate the threat of jeopardy, NMFS must address the level of sea turtle takes in the pelagic longline fishery. The Biological Opinion provides a framework for development of reasonable and prudent alternatives (RPAs) designed to remove the threat of jeopardy by reducing the number of loggerhead and leatherback sea turtles that are incidentally captured, injured, and killed by pelagic longline gear. The Biological Opinion provides two RPAs that, if implemented, would avoid the jeopardy finding. However, any combination of management measures, regulatory and/or non-regulatory, that have the effect of reducing the number of loggerhead and leatherback turtles that are incidentally captured, injured, and killed by pelagic longline gear by 75 percent will meet the requirements of the Biological Opinion. These combinations could include monitoring requirements, gear and/or fishing method modifications, and time/area closures. During the scoping period, NMFS plans to meet with fishery participants, particularly pelagic longline vessel operators who fish the northeast distant water statistical area (Grand Banks), to determine which combination of measures will reduce turtle takes to the required level while mitigating impacts to the industry.

The Biological Opinion also identified required reasonable and prudent measures (RPMs) and terms of conditions (T&Cs) for all HMS fisheries as part of the revised Incidental Take Statement. For example, education and outreach, monitoring requirements, and sea turtle resuscitation requirements were identified for several HMS fisheries. NMFS will work with fishery constituents to implement these required provisions of the Incidental Take Statement.

Management Measures Under Consideration

Because of the findings of the Biological Opinion, participants in the HMS fisheries may be required to operate under alternative management measures that may redistribute fishing effort and alter current fishing methods in order to avoid jeopardizing protected species. NMFS will consider regulatory and non-regulatory measures for managing the Atlantic tunas, swordfish, sharks, and billfish fisheries consistent with the requirements of the ESA. These measures will address the RPAs, RPMs, and T&Cs identified in the June 30, 2000, Biological Opinion, and may implement time/area closures, gear restrictions, crew training, monitoring and reporting requirements.

Scoping Meetings

Scoping for the SEIS will be held in consultation with the HMS and Billfish Advisory Panels. Public scoping meetings will be scheduled at times and locations convenient for affected parties. The following scoping meetings have been scheduled:

Monday, July 31, 2000—Silver Spring, MD, 1-3:30 p.m.

NMFS, SSMC2, 1325 East-West Highway, Room 2358, Silver Spring, MD 20910.

Tuesday, August 1, 2000—Barnegat Light, NJ, 7-9:30 p.m.

Barnegat Light Firehouse, Barnegat, NJ 08006.

Wednesday, August 2, 2000—Fairhaven, MA, 7-9:30 p.m.

The Seaport Inn (Holiday Inn), 110 Middle Street, Fairhaven, MA 02719.

Thursday, August 3, 2000—Islandia, NY, 7-9:30 p.m.

Islandia Marriott, 3635 Express Drive North, Islandia, NY 11749

Friday, August 4, 2000—Gloucester, MA, 1-3:30 p.m.

NMFS Northeast Regional Office, One Blackburn Drive, Gloucester, MA 01930.

Interested parties should contact Rebecca Lent (see ADDRESSES) regarding suggested times and locations for additional scoping meetings.

Special Accommodations

These meetings will be physically accessible to people with disabilities. Requests for sign language interpretation or other auxiliary aids should be directed to Margo Schulze-Haugen at (301) 713-2347 at least 5 days prior to the hearing date.

Timing of the Analysis and Tentative Schedule

Input on the issues to be addressed in preparing the SEIS and potential options for reducing take of protected species in the Atlantic HMS fisheries will be accepted and discussed at the scoping meetings. Given the jeopardy opinion, NMFS must take prompt action to reduce interactions with loggerhead and leatherback sea turtles. Therefore, NMFS is considering issuing regulations under the emergency provisions of the Magnuson-Stevens Act on an interim basis. In particular, immediate action may be required for the pelagic longline fishery operating on the Grand Banks, an area of high turtle takes during the summer and early fall. These emergency regulations would serve to implement provisional take reduction measures until a more comprehensive approach can be developed under the framework procedures of the HMS FMP, in conjunction with the SEIS. NMFS requests input from vessel captains on both the short term and long term solutions for reducing turtle interactions.

Dated: July 13, 2000.
Bruce C. Morehead,
Acting Director, Office of Sustainable Fisheries, National Marine Fisheries Service.

[FR Doc. 00-18144 Filed 7-13-00; 4:10 pm]

BILLING CODE 3510-22-F